DEPARTMENT OF AGRICULTURE

Agricultural Research Service

Office of the Under Secretary, Research, Education, and Economics; Notice of the Advisory Committee on Biotechnology and 21st Century Agriculture Meeting.

AGENCY: Agricultural Research Service, USDA.

ACTION: Notice of meeting.

SUMMARY: In accordance with the Federal Advisory Committee Act, 5 U.S.C. App. 2, the United States Department of Agriculture announces a meeting of the Advisory Committee on Biotechnology and 21st Century Agriculture (AC21).

DATES: The meeting dates are August 1, 2007, 8 a.m. to 5 p.m., and August 2, 2007, 8 a.m. to 4 p.m.

ADDRESSES: Room 107A, USDA Jamie L. Whitten Building, 12th Street and Jefferson Drive, SW., Washington, DC 20250.

FOR FURTHER INFORMATION CONTACT: Michael Schechtman, Telephone (202) 720-3817.

SUPPLEMENTARY INFORMATION: The sixteenth meeting of the AC21 has been scheduled for August 1-2, 2007. The AC21 consists of 22 members representing the biotechnology industry, farmers, food manufacturers, commodity processors and shippers, animal handlers, environmental and consumer groups, and academic researchers. In addition, representatives from the Departments of Commerce, Health and Human Services, and State, and the Environmental Protection Agency, the Council on Environmental Quality, the Office of the United States Trade Representative, and the National Association of State Departments of Agriculture serve as “ex officio” members. At this meeting, there will be several objectives: To introduce new Committee members; to complete substantive work on a paper addressing the question, “What issues should USDA consider regarding coexistence among diverse agricultural systems in a dynamic, evolving, and complex marketplace?”; and to develop a plan for finalizing the paper and presenting it to the Office of the Secretary, USDA. Background information regarding the work of the AC21 will be available on the USDA Web site at: http://www.usda.gov/wps/portal/!ut/p/_s.7_0_A/7_0_1OB?navid=BIOTECH&parentnav=AGRICULTURE&navtype=RT .

Members of the public should enter the building through the Jefferson Drive entrance. Requests to make oral presentations at the meeting may be sent to Michael Schechtman, Designated Federal Official, Office of the Deputy Secretary, USDA, 202 B Jamie L. Whitten Federal Building, 12th Street and Jefferson Drive, SW., Washington, DC 20250, Telephone (202) 720-3817; Fax (202) 690-4265; E-mail Michael.schechtman@ars.usda.gov. On August 1, 2007, if time permits, reasonable provision will be made for oral presentations of no more than five minutes each in duration. Written requests to make oral presentations at the meeting must be received by the contact person identified herein at least three business days before the meeting. The meeting will be open to the public, but space is limited. If you would like to attend the meetings, you must register by contacting Ms. Dianne Harmon at (202) 720-4074, by fax at (202) 720-3191 or by e-mail at Dianne.harmon@ars.usda.gov at least five business days prior to the meeting. Please provide your name, title, business affiliation, address, and telephone and fax numbers when you register. If you require a sign language interpreter or other special accommodation due to disability, please indicate those needs at the time of registration.

Dated: July 9, 2007.
Jeremy Stump,
Senior Advisor for International and Homeland Security Affairs and Biotechnology.

[FR Doc. E7-13680 Filed 7-12-07; 8:45 am]

BILLING CODE 3410-03-P